DEPARTMENT OF THE INTERIOR

Bureau of Land Management

[CACA 47740, LLCAD07000, L51030000.FX0000, LVRAB109AA01]

Notice of Availability of the Draft Environmental Impact Statement/Staff Assessment for the Stirling Energy Systems Solar Two Project and Possible California Desert Conservation Area Plan Amendment

Correction

Notice document 2010-3374 appearing on pages 7515 through 7517 in the issue of Friday, February 19, 2010 was included in error. The document was withdrawn and should not have appeared in the issue.

[FR Doc. C1-2010-3374 Filed 2-22-10; 12:00 pm]

BILLING CODE 1505-01-D